SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes a revision to an OMB-approved information collection.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Reports Clearance Officer to the addresses or fax numbers listed below.

(OMB), Office of Management and Budget, Attn: Desk Officer for SSA, Fax: 202-395-6974, E-mail address: OIRA_Submission@omb.eop.gov.

(SSA), Social Security Administration, DCBFM, Attn: Reports Clearance Officer, 1332 Annex Building, 6401 Security Blvd., Baltimore, MD 21235, Fax: 410-965-6400, E-mail address: OPLM.RCO@ssa.gov.

I. The information collection below is pending at SSA. SSA will submit it to OMB within 60 days from the date of this notice. Therefore, your comments would be most helpful if you submit them to SSA within 60 days from the date of this publication. Individuals can obtain copies of the collection instrument by calling the SSA Reports Clearance Officer at 410-965-3758 or by writing to the e-mail address listed above.

1. Physician's/Medical Officer's Statement of Patient's Capability to Manage Benefits—20 CFR 404.2015 and 416.615—0960-0024. SSA uses the information collected on Form SSA-787 to determine an individual's capability to handle his or her own benefits. This information assists SSA in determining the need for a representative payee. The respondents are physicians of the beneficiaries' or medical officers of the institution in which the recipients reside.

Type of Request: Extension of an OMB-approved information collection.

Number of Respondents: 24,000.

Frequency of Response: 1.

Average Burden per Response: 15 minutes.

Estimated Annual Burden: 6,000 hours.

2. Letter to Employer Requesting Wage Information—20 CFR 404.726—0960-0138. SSA uses Form SSA-L4201 to collect information from employers to establish and/or verify wage information for Supplemental Security Income (SSI) claimants and recipients. SSA also uses the information to determine eligibility and proper payment for SSI. The respondents are employers of applicants for and recipients of SSI payments.

Type of Request: Extension of an OMB-approved information collection.

Number of Respondents: 133,000.

Frequency of Response: 1.

Average Burden per Response: 30 minutes.

Estimated Annual Burden: 66,500 hours.

3. Statement of Living Arrangements, In-Kind Support and Maintenance—20 CFR 416.1130-416.1148—0960-0174. SSA uses Form SSA-8006-F4 to establish in-kind support and maintenance for SSI applicants and recipients. A recipient's need is the basis for determining SSI payments. Need is measured, in part, by the amount of income an individual receives. Income includes in-kind support and maintenance in the form of food and shelter provided by other persons. Form SSA-8006-F4 collects information to ensure that recipients are eligible to receive SSI payments and to determine the correct amount of payments due. The information permits SSA Administrative Law Judges to determine the income value of in-kind support and maintenance received by SSI applicants and recipients. The respondents are individuals who apply for SSI payments, or complete an SSI eligibility redetermination.

Type of Request: Extension of an OMB-approved information collection.

Number of Respondents: 173,380.

Frequency of Response: 1.

Average Burden per Response: 7 minutes.

Estimated Annual Burden: 20,228 hours.

4. Supplemental Security Income (SSI) Claim Information Notice—20 CFR 416.210—0960-0324. SSA uses Form SSA-L8050-U3 to collect information on whether an SSI recipient is using all sources of potential income for his or her own support. SSI supplements other income an individual has available. Respondents are SSI applicants or recipients who may be eligible for benefits from public or private programs.

Type of Request: Extension of an OMB-approved information collection.

Number of Respondents: 7,500.

Frequency of Response: 1.

Average Burden per Response: 10 minutes.

Estimated Annual Burden: 1,250 hours.

5. Permanent Residence Under Color of the Law (PRUCOL)—20 CFR 416.1615 and 416.1618—0960-0451. As discussed in SSA regulations at 20 CFR 416.1415 and 416.1618, a PRUCOL alien must present evidence of his/her alien status at application and periodically thereafter as part of the eligibility determination process for SSI. SSA verifies the validity of the evidence of PRUCOL for grandfathered nonqualified aliens with the Department of Homeland Security (DHS). Based on the DHS response, SSA will determine whether the individual is PRUCOL. Without this information, SSA is unable to determine whether the individual is eligible for SSI payments. The respondents are individuals who have alien status and live in the United Sates.

Type of Request: Extension of an OMB-approved information collection.

Number of Respondents: 1,300.

Frequency of Response: 1.

Average Burden per Response: 5 minutes.

Estimated Annual Burden: 108 hours.

6. QuickStart Automated Enrollment System—31 CFR 210—0960-0564. The financial institutions (FIs) collect Direct Deposit (DD)/Electronic Funds Transfer (EFT) information from their depositors who are enrolling for the first time, or who are changing DD/EFT information. Information needed to enroll under QuickStart is included in the Department of Treasury's Green Book, which is available online. The Department of Treasury's Green Book provides the data elements the recipient completes in order to enroll in direct deposit. The recipient submits the DD/EFT information electronically; therefore, it is not an SSA-prescribed form used to send information to Government agencies. SSA collects this information to facilitate electronic payment of funds. The respondents are Social Security, SSI recipients, and their FIs.

Type of Request: Extension of an OMB-approved information collection.

Number of Respondents: 3,950,000.

Frequency of Response: 1.

Average Burden per Response: 3 minutes.

Estimated Annual Burden: 197,500 hours.

7. Certification of Low Birth Weight for SSI Eligibility of Funds You Provided to Another and Statement of Funds You Received—20 CFR 416.931, 416.926a(m), (7) and (8) and 416.924—0960-0720. Form SSA-3830 assists hospitals and claimants who file on behalf of children in providing local field offices (FOs) and Disability Determination Services (DDSs) with medical information for determining disability of low birth weight infants. FOs use the forms as protective filing statements, and the medical information for making presumptive disability findings, which allow expedited payment to eligible claimants. DDSs use the medical information to determine disability and the most appropriate continuing disability review diaries. The respondents are hospitals that have information identifying low birth weight babies and medical conditions those babies may have.

Type of Request: Extension of an OMB-approved information collection.

Number of Respondents: 24,000.

Frequency of Response: 1.

Average Burden per Response: 15 minutes.

Estimated Annual Burden: 6,000 hours.

II. SSA has submitted the information collections listed below to OMB for clearance. Your comments on the information collections would be most useful if received by OMB and SSA within 30 days from the date of this publication. You can obtain a copy of the OMB clearance packages by calling the SSA Reports Clearance Officer at 410-965-3758, or by writing to the above listed address.

1. Application for Mother's or Father's Insurance Benefits—20 CFR 404.339-404.342, 20 CFR 404.601-404.603—0960-0003. The Social Security Act provides for the payment of monthly benefits to the widow or widower of an insured individual if the surviving spouse is caring for the deceased worker's child who is entitled to Social Security benefits. SSA uses the information collected on Form SSA-5-F6 to entitle an individual to their mother's or father's insurance benefits under the Old Age, Survivors and Disability Insurance (OASDI) program.

SSA published this information collection in the 60-day Federal Register Notice on October 27, 2008 at FR 63761 as an extension of an OMB-approved information collection. Since then SSA made revisions and has changed the type of request to a revision to an OMB-approved information collection.

Type of Request: Revision of an OMB-approved information collection.

Collection method | Number of respondents | Estimated completion time (minutes) | Burden hours
MCS | 26,045 | 15 | 6,511
MCS/Signature Proxy | 26,044 | 14 | 6,077
Paper | 1,611 | 15 | 403
Totals | 53,700 |  | 12,991

2. Supplement to Claim of Person Outside the United States—20 CFR 404.460, 404.463, 422.505(b), 42 CFR 407.27(c)—0960-0051. SSA uses the information it collects on Form SSA-21 to determine continuing entitlement to Social Security benefits and the proper benefit amounts of alien beneficiaries living outside the United States. SSA also uses the information to determine whether benefits are subject to withholding tax. The respondents are individuals entitled to Social Security benefits who are, will be, or have been residing outside the United States.

Type of Request: Revision of an OMB approved information collection.

Number of Respondents: 35,000.

Frequency of Response: 1.

Average Burden per Response: 10 minutes.

Estimated Annual Burden: 5,833 hours.

3. Coverage of Employees of State and Local Governments—20 CFR 404, Subpart M—0960-0425. The Code of Federal Regulations at 20 CFR 404, Subpart M prescribes the rules for states submitting reports of deposits and related recordkeeping to SSA. States (and interstate instrumentalities) are required to provide wage and deposit-related contribution information for pre-1987 periods. The respondents are state and local governments or interstate instrumentalities.

Type of Request: Extension of an OMB-approved information collection.

Number of Respondents: 52.

Frequency of Response: 1.

Average Burden per Response: 1 hour.

Estimated Annual Burden: 52 hours.

4. Marital Relationship Questionnaire—20 CFR 416.1826—0960-0460. SSA collects information on Form SSA-4178 to determine, for SSI purposes, whether unrelated individuals of the opposite sex who live together are holding themselves out to the public as husband and wife. SSA needs this information to determine whether we are making correct payments to SSI couples and individuals. The respondents are applicants for and recipients of SSI payments.

Type of Request: Extension of an OMB-approved information collection.

Number of Respondents: 5,100.

Frequency of Response: 1.

Average Burden per Response: 5 minutes.

Estimated Annual Burden: 425 hours.

5. Medical Report on Child with Allegation of Human Immunodeficiency Virus Infection—20 CFR 416.993-416-994—0960-0500. SSA uses Forms SSA-4814-F5 and SSA-4815-F6 to collect information necessary to determine if an individual with Human Immunodeficiency Virus (HIV) infection who is applying for SSI disability benefits, meets the requirements for presumptive disability payments. The respondents are the medical sources of the applicants for SSI disability payments.

Type of Request: Revision of an OMB-approved information collection.

Number of Respondents: 59,100.

Frequency of Response: 1.

Average Burden per Response: 10 minutes.

Estimated Annual Burden: 9,850.

6. Public Information Campaign—0960-0544. Periodically, SSA sends various public information materials, including public service announcements, news releases, and educational tapes, to public broadcasting systems so they can inform the public about various programs and activities conducted by SSA. SSA will frequently send follow-up business reply cards for these public information materials to obtain suggestions for improving them. The respondents are media sources who have received public information campaign materials (e.g., broadcast television and radio media sources).

Type of Request: Extension of an OMB-approved information collection.

Number of Respondents: 6,000.

Frequency of Response: 2.

Average Burden per Response: 1 minute.

Estimated Annual Burden: 200 hours.

7. Application to Collect a Fee for Payee Services—416.640.640(a), 416.1103(f)—0960-0719. SSA uses information it collects on Form SSA-445 to determine whether to authorize or deny permission to collect fees for payee services. The respondents are private sector businesses or state and local government offices applying to become a fee-for-service organizational representative payee. SSA published this information collection in the 60-day Federal Register Notice on September 17, 2008 at FR 53919 as an extension of an OMB-approved information collection. Since then SSA made revisions and has changed the type of request to a revision to an OMB-approved information collection.

Type of Request: Revision to an OMB-approved information collection.

Number of Respondents: 100.

Frequency of Response: 1.

Average Burden per Response: 10 minutes.

Estimated Annual Burden: 17 hours.

Dated: January 8, 2009.
John Biles,
Reports Clearance Officer, Center for Reports Clearance, Social Security Administration.

[FR Doc. E9-596 Filed 1-14-09; 8:45 am]

BILLING CODE 4191-02-P